DEPARTMENT OF DEFENSE

Department of the Army; Corps of Engineers

Intent To Prepare a Joint Environmental Impact Statement/Environmental Impact Report for the San Francisquito Creek Study, San Mateo and Santa Clara Counties, CA

AGENCY: Department of the Army, U.S. Army Corps of Engineers, DOD.

ACTION: Notice of intent.

SUMMARY: Pursuant to section 102(2)(c) of the National Environmental Policy Act (NEPA) of 1969 as implemented by the Council on Environmental Quality regulations (40 CFR parts 1500-1508), the California Environmental Quality Act (CEQA), and Public Law 102-484 section 2834, as amended by Public Law 104-106 section 2867, the Department of the Army and the San Francisquito Creek Joint Powers Authority (SFCJPA) hereby give notice of intent to prepare a joint Environmental Impact Statement/Environmental Impact Report (EIS/EIR) for the San Francisquito Creek Project in San Mateo and Santa Clara Counties, CA to consider opportunities to reduce both fluvial and tidal flooding, to reduce the threat to public safety due to flooding and to restore ecosystem quality and function, where possible. The U.S. Army Corps of Engineers (Corps) is the lead agency for this project under NEPA. The SFCJPA is the lead agency for this project under CEQA.

A public scoping meeting will be held to solicit comments on the environmental scope of the project and the appropriate scope of the joint EIS/EIR.

DATES: The public scoping meeting will be held on April 27, 2006 from 7 to 8:30 p.m. at the International School of the Peninsula, Cohn Campus, 151 Laura Lane, Palo Alto, Santa Clara County, CA. Written comments from all interested parties are encouraged and must be received on or before May 26, 2006.

ADDRESSES: Written comments and requests for information should be sent to Sarah Gaines, U.S. Army Corps of Engineers, San Francisco District, 333 Market St., 7th floor, San Francisco, CA 94105, Sara.M.Gaines@spd02.usace.army.mil, (415) 977-8533.

FOR FURTHER INFORMATION CONTACT: For questions concerning the CEQA aspects of the study, contact Cynthia D'Agosta, San Francisquito Creek Joint Powers Authority, 701 Laurel Street, Menlo Park, CA 94025, (650) 330-6765.

SUPPLEMENTARY INFORMATION: The San Francisquito Creek watershed encompasses an area of approximately 45 square miles, extending from the ridge of the Santa Cruz Mountains to San Francisco Bay in California. The majority of the watershed lies in the Santa Cruz Mountains and Bay Foothills northwest of Palo Alto; the remaining 7.5 square miles lie on the San Francisquito alluvial fan near San Francisco Bay.

San Francisquito Creek watershed contains mainstem San Francisquito Creek and the main tributary streams of West Union Creek, Corte Madera Creek, Bear Creek and Los Trancos Creek. Los Trancos Creek and San Francisquito Creek form the boundary between San Mateo and Santa Clara counties. The reaches are divided up as follows: Reach 1 extends from San Francisco Bay to the upstream face of Highway 101; Reach 2 extends from Highway 101 to Highway 280; and Reach 3 continues from Highway 280 to the ridge of the Santa Cruz Mountains. Also under consideration are two additional reaches subject to tidal flooding. The tidal reaches are as follows: (1) Tidal Reach 1 begins near the railroad trestle south of the Dumbarton Bridge and extends to the Menlo Park City limits in San Mateo County; (2) Tidal Reach 2 is from Matadero Creek to Adobe Creek in Santa Clara County.

The non-Federal sponsor for the Feasibility phase of the study is the SFCJPA. The SFCJPA is comprised of the following member agencies: The City of Palo Alto; the City of Menlo Park; the City of East Palo Alto; the Santa Clara Valley Water District; and the San Mateo County Flood Control District, as well as the following associate members: Stanford University and the San Francisquito Watershed Council.

1. Background. The carrying capacity of San Francisquito Creek is affected by the presence of development, vegetation, sedimentation, land subsidence, levee settlement, erosion, and culverts and bridges in the project area. Tidal influence compounds the flooding problem in Reach 1, particularly during times of heavy rainfall and high tides. Erosion has caused the undermining of roads and structures in many places throughout the watershed. Flooding on San Francisquito Creek affects the cities on Menlo Park and East Palo Alto in San Mateo County, and the city of Palo Alto in Santa Clara County.

Flooding has been a common occurrence from San Francisquito Creek. The most recent flood event occurred as a result of record creek flows in February 1998, when the Creek overtopped its banks in several areas, affecting approximately 1,700 residential and commercial structures and causing more than $26.6 million in property damages. After these floods, the SFCJPA was formed to pursue flood control and restoration opportunities in the area.

Low-lying portions of the cities of Palo Alto, East Palo Alto, and Menlo Park are also subject to tidal flooding caused by the potential overtopping or breaching of Bayfront levees during extreme high tide events. In this scenario, the waters of San Francisco Bay could inundate all land below the high tide level, potentially flooding hundreds of residential and commercial properties in all three cities.

The current Corps Feasibility study is a continuation of the authority passed on May 22, 2002 by the Committee on Transportation and Infrastructure of the United States House of Representatives, which is in accordance with Section 4 of the Flood Control Act of 1941. The resolution reads as follows:

“Resolved by the Committee on Transportation and Infrastructure of the United States House of Representatives, That, the Secretary of the Army, in accordance with Section 4 of the Flood Control Act of 1941, is hereby requested to conduct a study of the Guadalupe River and Tributaries, California, to determine whether flood damage reduction, environmental restoration and protection, storm water retention, water conservation and supply, recreation and other allied purposes are advisable in the interest of the San Francisquito Creek Watershed, including San Francisquito Creek, Santa Clara and San Mateo Counties, California.”

2. Proposed Action. The joint EIS/EIR will consider the environmental impact of possible flood damage reduction and ecosystem restoration alternatives with the end goal of reducing flood damage and improving environmental conditions in the San Francisquito Creek Watershed.

3. Proposed Alternatives. The joint EIS/EIR will include at a minimum the following alternatives. The possible measures have been organized by topic areas: no action, non-structural, fluvial flooding, tidal flooding, and ecosystem restoration. Measures will be combined to compose project alternatives.

a. No Action: With the No Action Plan (which is the “Future Without-Project Condition”), it is assumed that no long-term actions would be taken to provide flood control improvements along San Francisquito Creek or the Bayfront levees; flood control improvements would consist of emergency fixes to damage areas, consistent with available funding.

b. Non-Structural Alternative: A non-structural plan is comprised entirely of nonstructural measures or a combination of nonstructural measures and traditional structural measures. Examples of common nonstructural measures include: Flood warning and evacuation, relocation, land management designated floodways, and flood proofing measures such as raising structures.

c. Fluvial Flooding Action Measures—Reach 1: Some flood damage reduction measures that have been proposed for Reach 1 include (1) Widening the culvert at Highway 101 by constructing an additional culvert barrel and covering the surface opening between Highway 101 and West Bayshore Road, (2) raising levees or constructing floodwalls, (3) constructing weirs in existing levees to allow controlled overflow to open space areas, (4) widening the channel and constructing new levees, and (5) constructing a secondary channel in the Palo Alto Municipal Golf Course area.

d. Tidal Flooding Action Measures—Reach 1 and Tidal Reaches 1 and 2: Protection against tidal flooding could be provided by (1) the installation of flap gates that control the amount of tidal water entering San Francisquito Creek, (2) construction of higher levees or floodwalls along the creek to prevent tidal waters from entering the creek, and/or (3) construction of new or upgraded Bayfront levees or floodwalls between the city of Menlo Park's northernmost city limits and Adobe Creek to protect against tidal inundation.

e. Ecosystem Restoration Measures—Reach 1: Depending on the flood-damage-reduction measure selected for Reach 1, a number of restoration activities could be performed in this area. Restoration would primarily be in the form of wetland restoration and could be implemented in the area of the Palo Alto Municipal Golf Course (if it is redesigned to accommodate the project), in the creekside area if the levees are set back or in areas further downstream. Because threatened, endangered and special-status species occur in the study area, any restoration project would need to provide improved habitat quality for these species.

f. Fluvial Flooding Action Measures— Reaches 2&3: Some flood-damage-reduction measures under consideration for Reaches 2&3 include: (1) Upland detention, (2) concrete channelization, (3) bank stabilization, (4) new levee or floodwall construction, (5) channel widening, (6) construction of diversion conduit(s), (7) construction of new reservoirs or modification of existing reservoir(s), and (8) replacement or modification of bridges.

g. Ecosystem Restoration Measures—Reaches 2&3: A number of methods have been proposed for improving the habitat quality of San Francisquito Creek, depending on the need for bank stabilization in any particular area. These methods include: (1) Stabilize bank through use of vegetation only (remove invasive plant materials and replace riparian canopy), (2) repair structural bank protection locally, (3) use vegetative structure to reinforce existing bank protection, (4) remove and replace structural bank protection, (5) regrade and replant using biological techniques of bank stabilization, (6) stabilize banks by creating vegetated terraces, (7) combine a biotechnical approach to bank stabilization with toe placement of large rocks to prevent bank washout and toe scour, (8) use vegetated riprap along the bank, (9) stabilize the bank using a near-vertical vegetated wall, and (10) removal or modification of steelhead trout migration barriers.

4. Environmental Considerations. In all cases, environmental considerations will include riparian habitat, aquatic habitat, sediment budget, fish passage, recreation, public access, aesthetics, cultural resources, and environmental justice as well as other potential environmental issues of concern.

5. Scoping Process. The Corps and SFCJPA are seeking input from interested federal, state, and local agencies, Native American representatives, and other interested private organizations and parties through provision of this notice and holding of a scoping meeting (see DATES). The purpose of this meeting is to solicit input regarding the environmental issues of concern and the alternatives that should be discussed in the joint EIS/EIR. The public comment period closes May 26, 2006.

6. Availability of Joint EIS/EIR. The public will have an additional opportunity in the NEPA/CEQA process to comment on the proposed alternatives after the draft joint EIS/EIR is released to the public in 2008.

Philip T. Feir,
Lieutenant Colonel, Corps of Engineers, District Engineer.

[FR Doc. 06-3458 Filed 4-10-06; 8:45am]

BILLING CODE 3710-19-M